DEPARTMENT OF COMMERCE

International Trade Administration

[A-570-983]

Drawn Stainless Steel Sinks From the People's Republic of China: Preliminary Results of the Antidumping Duty Administrative Review and Preliminary Determination of No Shipments; 2015-2016

AGENCY: Enforcement and Compliance, International Trade Administration, Department of Commerce.

SUMMARY: The Department of Commerce (the Department) is conducting an administrative review of the antidumping duty order on drawn stainless steel sinks (drawn sinks) from the People's Republic of China (PRC). The period of review (POR) is April 1, 2015, through March 31, 2016. The review covers two mandatory respondents, Guangdong Dongyuan Kitchenware Industrial Co., Ltd. (Dongyuan) and Guangdong Yingao Kitchen Utensils Co. Ltd (Yingao). We preliminarily determine that sales of subject merchandise by both respondents have been made at prices below normal value (NV). We also preliminarily grant separate rates to ten companies, which demonstrated eligibility for separate rate status, but were not selected for individual examination. Finally, we preliminarily find that New Shichu Import and Export Company Limited (New Sichu) made no shipments of subject merchandise during the POR. We invite interested parties to comment on these preliminary results.

DATES: Effective May 5, 2017.

FOR FURTHER INFORMATION CONTACT: Terre Keaton Stefanova or Rebecca Janz, AD/CVD Operations, Office II, Enforcement and Compliance, International Trade Administration, U.S. Department of Commerce, 1401 Constitution Avenue NW., Washington, DC 20230; telephone: (202) 482-1280 and (202) 482-2972, respectively.

SUPPLEMENTARY INFORMATION:

Scope of the Order

The products covered by the order include drawn stainless steel sinks. Imports of subject merchandise are currently classified under the Harmonized Tariff Schedule of the United States (HTSUS) subheadings 7324.10.0000 and 7324.10.0010. Although the HTSUS subheadings are provided for convenience and customs purposes, the written description of the scope of the order is dispositive.¹

¹ For a complete description of the Scope of the Order, see Memorandum, “Decision Memorandum for Preliminary Results of the Antidumping Duty Administrative Review: Drawn Stainless Steel Sinks from the People's Republic of China,” issued concurrently with and hereby adopted by this notice (Preliminary Decision Memorandum).

Methodology

The Department is conducting this review in accordance with section 751(a)(1)(B) of the Tariff Act of 1930, as amended (the Act). For the mandatory respondents Dongyuan and Yingao, export price and constructed export price were calculated in accordance with section 772 of the Act. Because the PRC is a non-market economy (NME) within the meaning of section 771(18) of the Act, NV was calculated in accordance with section 773(c) of the Act.

For a full description of the methodology underlying our conclusions, see the Preliminary Decision Memorandum. The Preliminary Decision Memorandum is a public document and is on file electronically via Enforcement and Compliance's Antidumping and Countervailing Duty Centralized Electronic Service System (ACCESS). ACCESS is available to registered users at https://access.trade.gov, and to all parties in the Central Records Unit, room B8024 of the main Department of Commerce building. In addition, a complete version of the Preliminary Decision Memorandum can be accessed directly at http://enforcement.trade.gov/frn/. The signed and the electronic versions of the Preliminary Decision Memorandum are identical in content. A list of topics included in the Preliminary Decision Memorandum is provided as an appendix to this notice.

Separate Rates

We preliminarily determine that information placed on the record by the mandatory respondents, as well as by the following ten companies which were not selected for individual examination, demonstrated eligibility for separate rate status: Feidong Import and Export Co., Ltd.; Ningbo Afa Kitchen and Bath Co., Ltd.; Xinhe Stainless Steel Products Co., Ltd.; KaiPing Dawn Plumbing Products, Inc.; Jiangmen Hongmao Trading Co., Ltd.; Jiangmen New Star Hi-Tech Enterprise Ltd.; Foshan Zhaoshun Trade Co., Ltd.; Zhuhai KOHLER Kitchen & Bathroom Products Co., Ltd.; B&R Industries Limited; and Zhongshan Superte Kitchenware Co., Ltd.

Preliminary Determination of No Shipments

On July 5, 2016, New Shichu submitted a timely-filed certification that they had no exports, sales, or entries of subject merchandise during the POR.² Additionally, our inquiry to CBP did not identify any POR entries of New Shichu's subject merchandise. Based on the foregoing, the Department preliminarily determines that New Shichu did not have any reviewable transactions during the POR. For additional information regarding this determination, see the Preliminary Decision Memorandum.

² See letter from New Shichu, “Drawn Stainless Steel Sinks from the People's Republic of China Separate Rate Certification and Provisional No Sales Certification,” dated July 5, 2016.

Consistent with our practice in NME cases, the Department is not rescinding this administrative review for New Shichu, but intends to complete the review and issue appropriate instructions to CBP based on the final results of the review.³

³ See Non-Market Economy Antidumping Proceedings: Assessment of Antidumping Duties, 76 FR 65694, 65694-95 (October 24, 2011) (NME AD Assessment) and the “Assessment Rates” section, below.

Preliminary Results of Review

The Department preliminarily determines that the following weighted-average dumping margins exist for the period April 1, 2015, through March 31, 2016:

Exporters | Weighted- Average Dumping Margin (Percent)
Guangdong Dongyuan Kitchenware Industrial Co., Ltd | 1.80
Guangdong Yingao Kitchen Utensils Co. Ltd | 1.68
Feidong Import and Export Co., Ltd.* | 1.78
Ningbo Afa Kitchen and Bath Co., Ltd.* | 1.78
Xinhe Stainless Steel Products Co., Ltd.* | 1.78
KaiPing Dawn Plumbing Products, Inc.* | 1.78
Jiangmen Hongmao Trading Co., Ltd.* | 1.78
Jiangmen New Star Hi-Tech Enterprise Ltd.* | 1.78
Foshan Zhaoshun Trade Co., Ltd.* | 1.78
Zhuhai KOHLER Kitchen & Bathroom Products Co., Ltd.* | 1.78
B&R Industries Limited* | 1.78
Zhongshan Superte Kitchenware Co., Ltd.* | 1.78
* This company demonstrated that it qualified for a separate rate in this administrative review. We preliminarily assigned this company a rate which is the average of the weighted-average dumping margins assigned to Dongyuan and Yingao. See the Preliminary Decision Memorandum.

Disclosure and Public Comment

The Department intends to disclose to the parties the calculations performed for these preliminary results within five days of the date of publication of this notice in accordance with 19 CFR 351.224(b). Interested parties may submit case briefs no later than 30 days after the date of publication of these preliminary results of review.⁴ Rebuttals to case briefs may be filed no later than five days after the written comments are filed, and all rebuttal comments must be limited to comments raised in the case briefs.⁵

⁴ See 19 CFR 351.309(c).

⁵ See 19 CFR 351.309(d).

Any interested party may request a hearing within 30 days of publication of this notice.⁶ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 1401 Constitution Avenue NW., Washington, DC 20230.⁷

⁶ See 19 CFR 351.310(c).

⁷ See 19 CFR 351.310(d).

Unless otherwise extended, the Department intends to issue the final results of this administrative review, which will include the results of its analysis of issues raised in the case briefs, within 120 days of publication of these preliminary results, pursuant to section 751(a)(3)(A) of the Act.

Assessment Rates

Upon issuance of the final results, the Department will determine, and CBP shall assess, antidumping duties on all appropriate entries covered by this review.⁸ The Department intends to issue appropriate assessment instructions to CBP 15 days after the publication of the final results of this review.

⁸ See 19 CFR 351.212(b)(1).

For each individually-examined respondent in this review, if we continue to calculate a weighted-average dumping margin that is not zero or de minimis (i.e., less than 0.5 percent) in the final results, we will calculate importer- (or customer-) specific per-unit duty assessment rates based on the ratio of the total amount of dumping calculated for the importer's (or customer's) examined sales to the total sales quantity associated with those sales, in accordance with 19 CFR 351.212(b)(1).⁹ The Department will also calculate (estimated) ad valorem importer-specific assessment rates with which to assess whether the per-unit assessment rate is de minimis. We will instruct CBP to assess antidumping duties on all appropriate entries covered by this review when the importer-specific ad valorem assessment rate calculated in the final results of this review is not zero or de minimis. Where either the respondent's ad valorem weighted-average dumping margin is zero or de minimis, or an importer-(or customer-) specific ad valorem assessment rate is zero or de minimis,¹⁰ we will instruct CBP to liquidate the appropriate entries without regard to antidumping duties.

⁹ In these preliminary results, the Department applied the assessment rate calculation method adopted in Antidumping Proceedings: Calculation of the Weighted-Average Dumping Margin and Assessment Rate in Certain Antidumping Proceedings: Final Modification, 77 FR 8101 (February 14, 2012).

¹⁰ See 19 CFR 351.106(c)(2).

For the respondents that were not selected for individual examination in this administrative review and qualified for a separate rate, the assessment rate will be equal to the average of the weighted-average dumping margins assigned to Dongyuan and Yingao in the final results of this review.¹¹

¹¹ See Drawn Stainless Steel Sinks from the People's Republic of China: Preliminary Results of Antidumping Duty Administrative Review, 80 FR 26227, 26228 (May 7, 2015); unchanged in Drawn Stainless Steel Sinks From the People's Republic of China: Final Results of the Antidumping Duty Administrative Review; 2012-2014, 80 FR 69644 (November 10, 2015).

For entries that were not reported in the U.S. sales databases submitted by the companies individually examined during this review, the Department will instruct CBP to liquidate such entries at the PRC-wide rate. In addition, if we continue to find that New Shichu had no shipments of the subject merchandise, any suspended entries of subject merchandise from New Shichu will be liquidated at the PRC-wide rate.¹²

¹² For a full discussion of this practice, see NME AD Assessment.

Cash Deposit Requirements

The following cash deposit requirements will be effective upon publication of the final results of this administrative review for all shipments of the subject merchandise from the PRC entered, or withdrawn from warehouse, for consumption on or after the publication date, as provided for by section 751(a)(2)(C) of the Act: (1) For the companies listed above that have a separate rate, the cash deposit rate will be that rate established in the final results of this review (except, if the rate is zero or de minimis, then a cash deposit rate of zero will be established for that company); (2) for previously investigated or reviewed PRC and non-PRC exporters that received a separate rate in a prior segment of this proceeding, the cash deposit rate will continue to be the existing exporter-specific rate; (3) for all PRC exporters of subject merchandise that have not been found to be entitled to a separate rate, the cash deposit rate will be the rate for the PRC-wide entity, which is 76.45 percent; and (4) for all non-PRC exporters of subject merchandise that have not received their own rate, the cash deposit rate will be the rate applicable to the PRC exporter(s) that supplied that non-PRC exporter. These deposit requirements, when imposed, shall remain in effect until further notice.

Notification to Importers

This notice also serves as a preliminary reminder to importers of their responsibility under 19 CFR 351.402(f) to file a certificate regarding the reimbursement of antidumping and/or countervailing duties prior to liquidation of the relevant entries during this review period. Failure to comply with this requirement could result in the Secretary's presumption that reimbursement of antidumping and/or countervailing duties occurred and the subsequent assessment of double antidumping duties.

We are issuing and publishing these preliminary results of review in accordance with sections 751(a)(l) and 777(i)(l) of the Act and 19 CFR 351.213.

Dated: May 1, 2017.
Ronald K. Lorentzen,
Acting Assistant Secretary for Enforcement and Compliance.

Appendix

List of Topics Discussed in the Preliminary Decision Memorandum

I. Summary

II. Background

III. Scope of the Order

IV. Discussion of Methodology

A. Preliminary Determination of No Shipments

B. Non-Market Economy Country Status

C. Separate Rates Determination

1. Absence of De Jure Control

2. Absence of De Facto Control

3. Separate Rate for Non-Selected Companies

D. Surrogate Country

1. Economic Comparability

2. Significant Producer of Comparable Merchandise

3. Data Availability

E. Date of Sale

F. Comparisons to Normal Value

1. Determination of Comparison Method

2. Results of the Differential Pricing Analysis

3. Export Price/Constructed Export Price

4. VAT

5. Normal Value

G. Factor Valuation Methodology

H. Currency Conversion

V. Recommendation

[FR Doc. 2017-09142 Filed 5-4-17; 8:45 am]

BILLING CODE 3510-DS-P